DEPARTMENT OF THE INTERIOR

Bureau of Land Management

[BLM_CO_FRN_MO4500174063]

Notice of Availability of the Draft Resource Management Plan Amendment and Environmental Impact Statement for Big Game Habitat Conservation for Oil and Gas Management, Colorado

AGENCY: Bureau of Land Management, Interior.

ACTION: Notice of availability.

SUMMARY: In compliance with the National Environmental Policy Act of 1969, as amended (NEPA), and the Federal Land Policy and Management Act of 1976, as amended (FLMPA), the Bureau of Land Management (BLM) has prepared a Draft Resource Management Plan (RMP) Amendment and Draft Environmental Impact Statement (EIS) for Big Game Habitat Conservation for Oil and Gas Management and by this notice is providing information announcing the opening of the comment period on the Draft RMP Amendment/EIS.

DATES: This notice announces the opening of a 90-day comment period for the Draft RMP Amendment/EIS beginning with the date following the Environmental Protection Agency's (EPA) publication of its Notice of Availability (NOA) in the Federal Register. The EPA usually publishes its NOAs on Fridays.

To afford the BLM the opportunity to consider comments in the Proposed RMP Amendment/Final EIS, please ensure your comments are received prior to the close of the 90-day comment period or 15 days after the last public meeting, whichever is later.

ADDRESSES: The Draft RMP Amendment/EIS is available for review on the BLM ePlanning project website at https://go.usa.gov/xzXxY.

Written comments related to Big Game Habitat Conservation for Oil and Gas Management may be submitted by any of the following methods:

• Website: https://go.usa.gov/xzXxY.

• Mail: BLM Colorado State Office, Attn: Big Game Habitat Conservation amendment/EIS, Denver Federal Center Building 40, Lakewood, CO 80225.

Documents pertinent to this proposal may be examined online at https://go.usa.gov/xzXxY and at the BLM Colorado State Office, Denver Federal Center, Building 1A, Lakewood, Colorado.

FOR FURTHER INFORMATION CONTACT: Alan Bittner, Deputy State Director, Resources, telephone 303-239-3768; address BLM Colorado State Office, Attn: Big Game Corridor amendment/EIS, Denver Federal Center Building 40, Lakewood, CO 80225; email BLM_CO_corridors_planning@blm.gov. Individuals in the United States who are deaf, deafblind, hard of hearing, or have a speech disability may dial 711 (TTY, TDD, or TeleBraille) to access telecommunications relay services for contacting Mr. Bittner. Individuals outside the United States should use the relay services offered within their country to make international calls to the point-of-contact in the United States.

SUPPLEMENTARY INFORMATION: This document provides notice that the BLM Colorado State Director has prepared a Draft RMP Amendment/EIS and provides information announcing the opening of the comment period on the Draft RMP Amendment/EIS. The RMP amendment addresses alternative approaches for oil and gas management in order to maintain, conserve, and protect big game high priority habitat that would require amending the following existing plans:

• Northeast Resource Area RMP (1986)

• Royal Gorge Resource Area RMP (1996)

• San Luis Resource Area RMP (1991)

• Gunnison Resource Area RMP (1993)

• Uncompahgre Field Office RMP (2020)

• Colorado River Valley Field Office RMP (2015) and Roan Plateau Amendment (2016)

• Grand Junction Field Office RMP (2015)

• Kremmling RMP (2015)

• Little Snake RMP (2011)

• White River Field Office RMP (1997)

• Tres Rios Field Office RMP (2015)

• Canyons of the Ancients National Monument RMP (2010)

• Gunnison Gorge National Conservation Area RMP (2004)

The planning area includes all counties in Colorado and encompasses approximately 8.3 million acres of public land and approximately 27 million acres of Federal mineral estate. The decision area includes all 8.3 million acres of BLM-administered surface land (except where Federal minerals have been withdrawn from mineral leasing) plus approximately 4.7 million acres of Federal mineral split estate.

Formal public scoping for the Draft RMP Amendment/EIS started with the publication of the notice of intent (NOI) in the Federal Register on July 19, 2022. The NOI contained information about the purpose and need, preliminary planning criteria, proposed alternatives, expected impacts, and information about how to comment. The BLM requested that the public submit scoping comments in response to the NOI by September 2, 2022. Comments were used to inform development of the management plan. Issues analyzed in detail in the EIS include air quality, geology, fluid minerals, climate, noise and the acoustic environment, lands and realty, soil resources, big game species and habitat, special status species and other wildlife, vegetation, Native American religious concerns, cultural and paleontological resources, socioeconomics and environmental justice, recreation, travel and transportation, and visual resources.

Purpose and Need

The purpose of this RMP amendment process is to evaluate alternative approaches for oil and gas planning decisions to maintain, conserve, and protect big game corridors and other big game high priority habitat on BLM-administered lands and Federal mineral estate in Colorado. Under the authority of Section 202 of FLPMA, the BLM also seeks to evaluate consistency with plans or policies and programs of other Federal agencies, State and local governments, and Tribes, to the extent consistent with Federal laws, regulations, policies, and programs applicable to BLM-administered lands.

This RMP amendment process will consider current big game population and habitat data and evaluate planning alternatives' consistency with the policies and programs of State agencies that manage big game populations and regulate oil and gas operations in Colorado: Colorado Parks and Wildlife (CPW) and the Colorado Energy and Carbon Management Commission (ECMC). CPW manages wildlife in Colorado, and the ECMC regulates oil and gas development. Colorado Senate Bill 19-181 Oil and Gas Act gives the ECMC the authority to promulgate regulations that are protective of human health, safety, welfare, the environment, and wildlife resources. The ECMC 1200 series rules identify certain big game habitats where oil and gas operations are subject to specific ECMC requirements. CPW's implementation of the ECMC requirements for high priority habitat is intended to avoid, minimize, and mitigate impacts to big game habitats.

This RMP amendment process also complies with the terms of the settlement agreement in State of Colorado v. Bureau of Land Management (U.S. District Court for Colorado, 1:21-cv-00129).

Alternatives Including the Preferred Alternative

The BLM has analyzed four alternatives in detail, including the no action alternative. Alternative A is the No Action alternative and is based on existing approved RMPs, as amended, throughout Colorado. This alternative reflects the management decisions in the existing RMPs. The analysis considers how the BLM is currently managing big game habitat protection and oil and gas development across the state and provides a characterization of the existing environment for comparison with the action alternatives.

Alternative B is based on management alignment with the ECMC rules for oil and gas development in elk, mule deer, pronghorn, and bighorn sheep high priority habitat (Rule 1202.c, d; Rule 1203). Where lands are open to oil and gas leasing under existing RMPs, Alternative B prescribes measures consistent with the ECMC rules to conserve high priority habitat. Alternative B incorporates various oil and gas lease stipulations, including a controlled surface use density limitation of one well pad per square mile in big game high priority habitat subject to waivers, exceptions, and modifications in some circumstances.

Alternative C, in addition to incorporating lease stipulations similar to alternative B, applies a three percent surface disturbance cap on oil and gas development within big game high priority habitat on BLM surface lands. This limit does not apply to private, local government, or State lands in the decision area. This alternative provides for waivers, exceptions, and modifications to the stipulations in some circumstances.

Alternative D is similar to the other action alternatives in that it also incorporates lease stipulations that align the BLM's oil and gas management with ECMC's rules for big game high priority habitat in the decision area. Alternative D includes a three percent surface disturbance cap on oil and gas development within big game high priority habitat; however, the application of this cap is not limited to BLM surface lands as it is under Alternative C. Under this alternative, the disturbance threshold applies to big game high priority habitat on all lands in the decision area regardless of land ownership. Additionally, unlike Alternatives B and C, this alternative proposes to reduce the area open to leasing of oil and gas. Specifically, big game high priority habitat areas identified with low, moderate, or no known oil and gas development potential would be closed to new Federal oil and gas leasing.

The BLM further considered five additional alternatives but dismissed these alternatives from detailed analysis as explained in the Draft RMP Amendment/EIS.

The State Director has identified Alternative B as the preferred alternative because it conserves big game high priority habitat while balancing other resource uses.

Mitigation

Across all action alternatives, the BLM considers potential mitigation in compliance with Council on Environmental Quality, Department of the Interior, and BLM guidance. Mitigation can help provide a conservation benefit to big game species when impacts from oil and gas development activity are not avoidable. Consistent with valid existing rights and applicable law, when oil and gas development results in habitat loss or degradation within big game high priority habitat, the BLM will require and ensure mitigation that provides a conservation benefit to the species, including accounting for any uncertainty associated with the effectiveness of such mitigation.

The action alternatives call for the BLM to consider alternative locations for oil and gas operations that either avoid big game high priority habitat altogether, or, where avoidance is not feasible, minimize adverse impacts to the maximum extent possible. The action alternatives include surface density limitations, as well as a density trigger that would require the operator to address indirect impacts through compensatory mitigation. The action alternatives call for the BLM to include avoidance, minimization, and mitigation strategies in subsequent implementation-level NEPA analyses for proposed actions that may result in big game high priority habitat loss and degradation.

Subsequent implementation-level mitigation could limit the duration and extent of development activities in big game high priority habitat through all phases of development by avoiding activities in high priority habitat, applying a surface density limitation, and mitigating impacts. Mitigation plans would address cumulative effects of oil and gas activities across a given landscape.

The BLM may also require compensatory mitigation to offset disturbance or density limitation exceedances and direct and unavoidable adverse indirect impacts that result in the functional loss of habitat from oil and gas development in big game high priority habitat. Direct impacts to big game occur from disturbance or habitat fragmentation during construction, drilling, and/or completion activities and habitat conversion to oil and gas facilities. Indirect impacts to big game occur over time from big game avoidance of disturbance and the cumulative functional habitat loss from fragmentation and modified habitat use as development density increases. Indirect impacts may be avoided or minimized through the application of alternative siting and operating requirements. The BLM, after coordination with CPW, will determine whether compensatory mitigation proposed by the operator is sufficient to protect big game high priority habitat from direct and unavoidable adverse indirect impacts.

The BLM has the discretion to require an operator to modify surface operations to change or add specific mitigation measures when supported by scientific analysis and consistent with existing rights. Potential mitigation/conservation measures not already required as stipulations would be analyzed in a site-specific NEPA document, and incorporated, as appropriate, as conditions of approval of the permit, plan of development, or other use authorization. In discussing surface use rights, 43 CFR 3101.1-2 states that the lessee has the right, “to use so much of the leased lands as is necessary to explore for, drill for, mine, extract, remove and dispose of all the leased resource.” However, lessees are subject to lease stipulations, nondiscretionary statutes, and as identified in 43 CFR 3101.1-2, “such reasonable measures as may be required by the authorized officer to minimize adverse impacts to other resource values, land uses or users not addressed in the lease stipulations at the time operations are proposed.”

Schedule for the Decision-Making Process

The BLM will provide additional opportunities for public participation consistent with the NEPA and land use planning processes, including a 30-day public protest period and a 60-day Governor's consistency review on the Proposed RMP. The Proposed RMP Amendment/Final EIS is anticipated to be available for public protest starting August 2024, with an Approved RMP and Record of Decision in November 2024.

The BLM will be holding public meetings on the Draft RMP Amendment/EIS. The specific date(s) and location(s) of these meetings will be announced at least 15 days in advance through local media and the ePlanning project page (see ADDRESSES).

The BLM will continue to consult with Indian Tribal Nations on a government-to-government basis in accordance with Executive Order 13175, BLM Manual 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Douglas J. Vilsack,
State Director.

[FR Doc. 2023-24552 Filed 11-8-23; 8:45 am]

BILLING CODE 4331-16-P